SECURITIES AND EXCHANGE COMMISSION

Sunshine Act Meetings

FEDERAL REGISTER CITATION OF PREVIOUS ANNOUNCEMENT: 88 FR 36624, June 5, 2023.

PREVIOUSLY ANNOUNCED TIME AND DATE OF THE MEETING: Wednesday, June 7, 2023 at 10:00 a.m.

CHANGES IN THE MEETING: The following item will not be considered during the Open Meeting on Wednesday, June 7, 2023:

1. The Commission will consider whether to approve a proposed amendment to the CAT NMS Plan to implement a revised funding model (“Executed Share Model”) for the consolidated audit trail (“CAT”) and to establish a fee schedule for Participant CAT fees in accordance with the Executed Share Model.

CONTACT PERSON FOR MORE INFORMATION: For further information; please contact Vanessa A. Countryman from the Office of the Secretary at (202) 551-5400.

Authority: 5 U.S.C. 552b.

Dated: June 6, 2023.
J. Matthew DeLesDernier,
Deputy Secretary.

[FR Doc. 2023-12339 Filed 6-6-23; 11:15 am]

BILLING CODE 8011-01-P